DEPARTMENT OF HEALTH AND HUMAN SERVICES

Administration for Children and Families

Proposed Adoption of ANA Program Policies and Procedures

AGENCY: Administration for Native Americans (ANA), HHS.

ACTION: Notice of Public Comment on the Proposed Adoption of ANA Program Policies and Procedures.

SUMMARY: Pursuant to Section 814 of the Native American Programs Act of 1974 (NAPA), as amended, the Administration for Native Americans is required to provide members of the public an opportunity to comment on proposed changes in interpretive rules, general statements of policy, and rules of agency procedure or practice, and to give notice of the final adoption of such changes at least 30 days before the changes become effective. In accordance with notice requirements of NAPA, ANA herein describes its proposed interpretive rules, general statements of policy, and rules of agency procedure or practice as they relate to the Fiscal Year (FY) 2010 Funding Opportunity Announcements (FOA) for the following programs: Social and Economic Development Strategies (hereinafter referred to as SEDS), Social and Economic Development Strategies—Special Initiative (hereinafter referred to as SEDS-SI), Native Language Preservation and Maintenance (hereinafter referred to as Language Preservation), Native Language Preservation and Maintenance—Esther Martinez Initiative (hereinafter referred to as Language-EMI), and Environmental Regulatory Enhancement (hereinafter referred to as ERE). This notice also provides additional information about ANA's plan for administering the programs.

DATES: The deadline for receipt of comments is 30 days from the date of publication in the Federal Register.

ADDRESSES: Comments in response to this notice should be addressed to Caroline Gary, Deputy Commissioner, Administration for Native Americans, 370 L'Enfant Promenade, SW., Mail Stop: Aerospace 2-West, Washington, DC 20447. Delays may occur in mail delivery to Federal offices; therefore, a copy of comments should be faxed to (202) 690-7441. Comments will be available for inspection by members of the public at the Administration for Native Americans, 901 D Street, SW., Washington, DC 20447.

FOR FURTHER INFORMATION CONTACT: Caroline Gary, Deputy Commissioner, (877) 922-9262.

SUPPLEMENTARY INFORMATION: Section 814 of NAPA, as amended, requires ANA to provide notice of its proposed interpretive rules, general statements of policy, and rules of agency organization, procedure or practice. The proposed clarifications, modifications, and new text will appear in the five FY 2010 FOAs: SEDS, SEDS-SI, Language Preservation, Language-EMI, and ERE. This notice serves to fulfill this requirement.

I. Funding Opportunity Announcements. In previous years, ANA and the Administration for Children and Families (ACF) referred to a grant funding announcement as a “Program Announcement.” ACF and ANA now refer to these same grant funding announcements as “Funding Opportunity Announcements.” In FY 2010, ANA will reduce the number of FOAs from nine (in FY 2009) to five. In doing so, ANA will allow greater flexibility in the project proposals to better meet the needs of Tribes and organizations. In FY 2009, each FOA had program areas of interest and funding parameters, which required applicants to differentiate between the FOAs in order to propose activities and objectives that could be awarded. If an applicant submitted its proposal under the wrong FOA or proposed activities that were outside of those allowed under the FOA, the applicant would be excluded from the competition. By combining programs, ANA has allowed for greater flexibility in project proposals. ANA expects that this will result in fewer applications being excluded from the grant competitions.

In FY 2010, SEDS and SEDS-SI will include program areas of interest for project proposals that address governance and economic and social development. In addition, SEDS and SEDS-SI will also incorporate the special initiatives formerly under the Family Preservation Assessment and Family Preservation Implementation announcements.

In FY 2010, SEDS-SI will replace SEDS-Alaska and extend the former program area to include proposals from Tribes and organizations with limited capacity and smaller project scopes throughout ANA's geographic service areas. (Legal authority: Section 803(a) of NAPA, as amended.)

The FY 2010 Language Preservation FOA will include program areas of interest formerly included in Native Language Preservation and Maintenance Assessment, Native Language Preservation and Maintenance Planning, and Native Language Preservation and Maintenance Implementation. Therefore, the program areas of interest for Language Preservation will include assessing the current status of the language, planning and implementing language programs, training teachers, and creating curriculum and teaching materials.

The FY 2010 Language-EMI FOA will only include project proposals for language survival schools, language nests, and restoration programs, as identified in the Esther Martinez Native American Languages Preservation Act of 2006.

(Legal authority: Section 803(a) and 803C of NAPA, as amended, 42 U.S.C. 2991b and § 2991b-3 and Pub. L. 109-394.)

The FY 2010 ERE FOA will continue to address environmental regulatory programs for Tribes and Native Alaskan Villages.

(Legal authority: Section 803(a) and (d) of NAPA, as amended.)

A. Award Information: In FY 2010, ANA will revise the length of project periods, funding floors, and funding ceilings to allow applicants greater flexibility in planning their projects. All FOAs, except Language-EMI, will allow 12-, 24-, and 36-month project periods. Language-EMI funding will only be awarded for 36-month projects, as per the requirements of the Esther Martinez Native American Languages Preservation Act of 2006, Public Law 109-394.

The funding ranges will be as follows:

SEDS—$150,000 to $500,000 per budget period.

SEDS-SI—$50,000 to $149,999 per budget period.

Language Preservation—$100,000 to $300,000 per budget period.

Language-EMI—$100,000 to $300,000 per budget period.

ERE—$100,000 to $300,000 per budget period.

B. Disqualification Factors: ANA will revise for clarification two factors that are specific to applications submitted for ANA funding. Applications that are submitted without this documentation will be considered non-responsive to the FOA and will not be considered for competition.

This first factor applies to all applicants for ANA funding. ANA will require documentation that demonstrates that the official governing body of the applicant approves the submission to ANA for the current grant competition. In addition, Tribally authorized components must also have documentation from the Tribal governing body demonstrating approval of the application submission. This requirement is broader and less restrictive than the Tribal resolution requirement in previous years.

The second factor applies only to applicants that are not Tribes or Native Alaska Villages. This factor requires documentation demonstrating that the majority of the governing body is representative of the community to be served.

(Legal authority: Section 803(a) and 814 of NAPA, as amended.)

C. Definitions: ANA added definitions for terms used in the FOA. A new definition is included for Federal Share. In addition, the Language-EMI FOA includes a definition for Language Restoration Program.

(Legal authority: Section 803(b) and 814 of NAPA, as amended and 42 U.S.C. 2991b-3(b)(7)(C).)

Federal Share: Financial assistance provided by ANA in the amount of 80 percent of the approved costs of the project. The Commissioner may approve assistance in excess of such percentage if such action is in furtherance of the purposes of NAPA.

Language Restoration Program: An educational program that operates at least one Native American language program for the community in which it serves; provides training programs for teachers of Native American languages; develops instructional materials for the programs; works towards a goal of increasing language proficiency and fluency in at least one Native American language; and provides instruction in at least one Native American language.

D. ANA Application Evaluation Criteria: ANA will revise the evaluation criteria throughout all FOAs to simplify what information is being requested from applicants and to allow greater flexibility in applicants' proposals. The evaluation criteria will be revised to include clear explanations as to how ANA will assess the information provided in the applications.

(Legal authority: Section 803(c) of NAPA, as amended.)

i. Titles and Assigned Weight: In FY 2010, ANA will reduce the number of evaluation criteria from six to four and adjust the weighted scores to focus on those elements that are important to project success and project monitoring. Weighted sub criteria scores are identified for Criterion 2 only. ANA is proposing generic titles for the criterion to eliminate confusion between the titles of the project content categories and the evaluation criteria.

For FY 2010, the criteria will be weighted as follows:

Criterion 1—20 points;

Criterion 2—50 points;

Sub criterion—Project Strategy and Objective Work Plan (OWP)—40 points

Sub criterion—Contingency Planning and Sustainability—10 points

Criterion 3—15 points; and

Criterion 4—15 points.

ii. ANA Evaluation Criteria: ANA will simplify what is being evaluated to focus on elements of the proposed project that are important for project success or to monitoring progress. Included here is a summary of each criterion. Each FOA will more fully describe the evaluation criteria.

(a) Criterion 1: Under this criterion, applications will be evaluated on the applicant's connection and commitment to the target community and the need for assistance, as demonstrated by the stated problem. The applicant will be asked to identify a problem statement and project goal.

(b) Criterion 2: Under this criterion, applications will be evaluated on the strength of the project approach and the applicant's capacity to implement the project. The applicant will be asked to describe the project strategy, provide the OWP, identify challenges and contingency planning, and demonstrate sustainability of the project.

(c) Criterion 3: Under this criterion, the application will be evaluated on the three identified impact indicators, the target numbers and the tracking mechanisms. Two impact indicators, namely partnerships and leveraged resources, are standard for all applications. ANA requests that applicants identify a third impact indicator, which will be used to track how well the project addressed the problem statement. ANA will request baseline data, which is the existing situation at the time of the application, a target situation at the end of the project period, and a target for three years after the end of the project period.

(d) Criterion 4: Under this criterion, the application will be evaluated on the strength of the budget and how well it supports successful completion of the project objectives. ANA will request that the applicant present a line-item budget and budget justification for each budget period. The budget justification should tie the budget to the project strategy and should demonstrate the cost effectiveness of the budget.

II. Panel Review Process. In accordance with the Department of Health and Human Services Grants Policy Statement, revised in January 2007, applicants may receive a summary of the panel review comments after funding decisions have been made. The comment summaries will assist applicants in compiling improved applications for future funding competitions.

(Legal authority: Section 814 of NAPA, as amended.)

Dated: December 22, 2009.
Caroline Gary,
Deputy Commissioner, Administration for Native Americans.

[FR Doc. E9-30826 Filed 12-28-09; 8:45 am]

BILLING CODE 4184-01-P